DEPARTMENT OF COMMERCE

International Trade Administration

[C-533-884; C-570-081]

Glycine From India and the People's Republic of China: Countervailing Duty Orders

AGENCY: Enforcement and Compliance, International Trade Administration, Department of Commerce.

SUMMARY: Based on affirmative final determinations by the Department of Commerce (Commerce) and the International Trade Commission (the ITC), Commerce is issuing countervailing duty orders on glycine from India and the People's Republic of China (China).

DATES: Applicable June 21, 2019.

FOR FURTHER INFORMATION CONTACT: Davina Friedmann at (202) 482-0698 or Julie Geiger at (202) 482-2057 (India), or Tyler Weinhold at (202) 482-1121 (China), AD/CVD Operations, Office VI, Enforcement and Compliance, International Trade Administration, U.S. Department of Commerce, 1401 Constitution Avenue NW, Washington, DC 20230.

SUPPLEMENTARY INFORMATION:

Background

In accordance with sections 705(d) and 777(i)(1) of the Tariff Act of 1930, as amended (the Act), and 19 CFR 351.210(c), Commerce published its affirmative final determinations in the countervailing duty investigations of glycine from India and China on May 1, 2019.¹ On June 14, 2019, the ITC notified Commerce of its final affirmative determinations that an industry in the United States is materially injured within the meaning of section 705(b)(1)(A)(i) of the Act, by reason of subsidized imports of glycine from India and China.²

¹ See Countervailing Duty Investigation of Glycine from India: Affirmative Final Determination, 84 FR 18482 (May 1, 2019); see also Glycine from the People's Republic of China: Final Affirmative Countervailing Duty Determination, 84 FR 18489 (May 1, 2019).

² See ITC Letter, dated June 14, 2019 (ITC Letter).

Scope of the Orders

The merchandise covered by these orders is glycine from India and China. For a complete description of the scope of the orders, see the Appendix to this notice.

Countervailing Duty Orders

On June 14, 2019, in accordance with sections 705(b)(1)(A)(i) and 705(d) of the Act, the ITC notified Commerce of its final determinations that an industry in the United States is materially injured by reason of imports of glycine from India and China.³ Therefore, in accordance with sections 705(c)(2) and 706 of the Act, we are issuing these countervailing duty orders. Because the ITC determined that imports of glycine from India and China are materially injuring a U.S. industry, unliquidated entries of such merchandise from India and China, entered or withdrawn from warehouse for consumption, are subject to the assessment of countervailing duties.

³ See ITC Letter.

As a result of the ITC's final affirmative determinations, in accordance with section 706(a)(1) of the Act, Commerce will direct U.S. Customs and Border Protection (CBP) to assess, upon further instruction by Commerce, countervailing duties on unliquidated entries of glycine from India and China. Countervailing duties will be assessed on unliquidated entries of glycine from India and China entered, or withdrawn from warehouse, for consumption on or after September 4, 2018, the date of publication of the Preliminary Determinations,⁴ but will not include entries occurring after the expiration of the provisional measures period and before publication in the Federal Register of the ITC's injury determination, as further described below.

⁴ See Glycine from India: Preliminary Affirmative Countervailing Duty Determination and Alignment of Final Determination with Final Antidumping Duty Determination, 83 FR 44859 (September 4, 2018); see also Glycine from the People's Republic of China: Preliminary Affirmative Countervailing Duty Determination, 83 FR 44863 (September 4, 2018) (collectively, Preliminary Determinations).

Suspension of Liquidation

In accordance with section 706 of the Act, Commerce will instruct CBP to reinstitute the suspension of liquidation of subject merchandise (i.e., glycine from India and China), effective on the date of publication of the ITC's final determination in the Federal Register, and to assess, upon further instruction by Commerce pursuant to 706(a)(1) of the Act, countervailing duties for each entry of the subject merchandise in an amount based on the net countervailable subsidy rates for the subject merchandise. We intend to instruct CBP to require, at the same time as importers would normally deposit estimated duties on this merchandise, cash deposits for each entry of subject merchandise equal to the rates noted below. These instructions suspending liquidation will remain in effect until further notice. The all-others rates apply to all producers or exporters not specifically listed.

Estimated Subsidy Rates

The estimated subsidy rates for each countervailing duty order are as follows:

Exporter/producer | Subsidy rate (percent)
India
Kumar Industries, India | 6.99
Paras Intermediates Private Limited | 3.03
All Others | 5.01
China
JC Chemicals Limited | 144.01
Sigmachem Corp | 144.01
All Others | 144.01

Provisional Measures

Section 703(d) of the Act states that the suspension of liquidation pursuant to an affirmative preliminary determination may not remain in effect for more than four months. Commerce published its affirmative Preliminary Determinations on September 4, 2018. Therefore, the four-month period beginning on the date of the publication of the Preliminary Determinations ended on January 1, 2019. Pursuant to section 707(b) of the Act, the collection of cash deposits at the rates listed above will begin on the date of publication of the ITC's final injury determination in the Federal Register.

Therefore, in accordance with section 703(d) of the Act, Commerce instructed CBP to terminate the suspension of liquidation and to liquidate, without regard to countervailing duties, unliquidated entries of glycine from India and China entered, or withdrawn from warehouse, for consumption after January 1, 2019, the date on which provisional measures expired, through the day preceding the date of publication of the ITC's final affirmative injury determinations in the Federal Register. Suspension of liquidation will resume on the date of publication of the ITC's final affirmative injury determinations in the Federal Register.

Notifications to Interested Parties

This notice constitutes the countervailing duty orders with respect to glycine from India and China pursuant to section 706(a) of the Act. Interested parties can find a list of countervailing duty orders currently in effect at http://enforcement.trade.gov/stats/iastats1.html.

These orders are published in accordance with sections 705(c) and 706(a) of the Act and 19 CFR 351.211(b).

Dated: June 18, 2019.
Jeffrey I. Kessler,
Assistant Secretary for Enforcement and Compliance.

Appendix

Scope of the Orders

The merchandise covered by these orders is glycine at any purity level or grade. This includes glycine of all purity levels, which covers all forms of crude or technical glycine including, but not limited to, sodium glycinate, glycine slurry and any other forms of amino acetic acid or glycine. Subject merchandise also includes glycine and precursors of dried crystalline glycine that are processed in a third country, including, but not limited to, refining or any other processing that would not otherwise remove the merchandise from the scope of these orders if performed in the country of manufacture of the in-scope glycine or precursors of dried crystalline glycine. Glycine has the Chemical Abstracts Service (CAS) registry number of 56-40-6. Glycine and glycine slurry are classified under Harmonized Tariff Schedule of the United States (HTSUS) subheading 2922.49.43.00. Sodium glycinate is classified in the HTSUS under 2922.49.80.00. While the HTSUS subheadings and CAS registry number are provided for convenience and customs purposes, the written description of the scope of these orders is dispositive.

[FR Doc. 2019-13361 Filed 6-20-19; 8:45 am]

BILLING CODE 3510-DS-P